RAILROAD RETIREMENT BOARD

Computer Matching and Privacy Protection Act of 1988; Notice of RRB Records Used in Computer Matching Programs

AGENCY: Railroad Retirement Board (RRB).

ACTION: Notice of Records Used in Computer Matching Programs. Notification to individuals who are receiving or have received benefits under the Railroad Retirement Act.

SUMMARY: As required by the Computer Matching and Privacy Protection Act of 1988, the RRB is issuing a public notice of its use and intent to use, in ongoing computer matching programs, certain information obtained from the Health Care Financing Administration (HCFA).

The purpose of this notice is to advise individuals applying for or receiving benefits under the Railroad Retirement Act of the use made by the RRB of this information obtained from HCFA by means of a computer match.

DATES: Comments should be received on or before October 2, 2000.

ADDRESSES: Send comments to Beatrice Ezerski, Secretary to the Board, Railroad Retirement Board, 844 North Rush Street, Chicago, Illinois 60611-2092.

FOR FURTHER INFORMATION CONTACT: James Verplaetse, Office of Programs, Railroad Retirement Board, 844 North Rush Street, Chicago Illinois 60611-2092, telephone number (312) 751-3381.

SUPPLEMENTARY INFORMATION: Under certain circumstances, the Computer Matching and Privacy Protection Act of 1988, Pub. L. 100-503, requires a Federal agency participating in a computer matching program to publish a notice in the Federal Register regarding the establishment of that matching program. Such a notice must include information in the following first five categories:

Name of Participating Agencies: The Railroad Retirement Board and the Health Care Financing Administration (HCFA).

Purpose of the Match: To identify RRB annuitants who are 66 or over and who have not had any Medicare utilization during the past calendar year. The general purposes of the match are (1) to verify that these RRB annuitants are still alive and if alive, to determine whether the RRB should appoint a representative payee for them; (2) to identify instances when payments are being made to persons who because they are deceased are no longer entitled to receive them; (3) to recover any payments erroneously made; and (4) to identify instances of fraud, and where established and warranted, to initiate prosecution.

Authority for Conducting the Match: 45 U.S.C. 231f(b)(7). This section requires that the Secretary of Health and Human Services provide information pertinent to the administration of the Railroad Retirement Act. The death of an annuitant under that Act is a terminating event.

Categories of Records and Individuals Covered: All annuitants under the Railroad Retirement Act who are age 66 or over and who have had no Medicare utilization during the previous calendar year. The RRB records used in this matching program are covered under Privacy Act system of records, RRB-22, Railroad Retirement, Survivor, and Pensioner Benefit System. The HCFA records used in this matching program are covered under Privacy Act system of records HHS/HCFA/BPO 09-70-0526, Common Working File.

Inclusive Dates of the Matching Program: The life of this agreement is 18 months; the match will be conducted no more than three times during this period.

Procedure: HCFA will furnish the RRB with a computer tape of annuitants under the Railroad Retirement Act who, according to HCFA records, are age 66 or older and have had no Medicare utilization during the previous calendar year. After excluding certain categories of individuals for whom no follow-up action will be taken, the RRB will contact the remaining identified individuals to determine whether they are still alive and if so to determine whether the RRB needs to appoint a representative payee to ensure that the benefits to which they are entitled are properly expended on their behalf. If the RRB establishes that an individual so identified in the match is deceased it will terminate the annuity, and if there are any benefits that were improperly paid, it will take action to recover them. In addition, if there is any indication of fraud, the RRB will evaluate whether prosecution should be initiated against the person or persons who acted fraudulently. No action will be taken with respect to the individuals excluded from the monitoring program.

The public information collection represented by the follow-up action for the individuals identified by the matching program was previously approved by the Office of Management and Budget (OMB 3220-0178).

Other information:; The notice we are giving here is in addition to any individual notice.

A copy of this notice has been or will be furnished to both Houses of Congress and the Office of Management and Budget.

Dated: August 24, 2000.
By Authority of the Board,
Beatrice Ezerski,
Secretary to the Board.

[FR Doc. 00-22461 Filed 8-31-00; 8:45 am]

BILLING CODE 7905-01-M